DEPARTMENT OF HEALTH AND HUMAN SERVICES

Centers for Disease Control and Prevention

[30Day-05-05CK]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5974 or send an e-mail to omb@cdc.gov. Send written comments to CDC Desk Officer, Office of Management and Budget, Washington, DC or by fax to (202) 395-6974. Written comments should be received within 30 days of this notice.

Proposed Project

Collection of Assessment Information about the Centers for Disease Control and Prevention Publications—NEW—National Center for Health Marketing (NCHM), Centers for Disease Control and Prevention (CDC).

Background and Brief Description

As part of CDC's Future's Initiative, the National Center for Health Marketing was created to ensure that health information, interventions, and programs at CDC are based on sound science.

Numerous CDC-operated communication platforms targeting scientific, professional, and technical audiences have been developed in the past twenty years. The reach of many of these platforms has increased significantly in the past five years. In order to ensure future growth, it is critical to obtain feedback from subscribers of these platforms to understand who uses them, how they use them, how satisfied they are with the platforms, and solicit suggestions on ways to improve each platform to bolster satisfaction. The data collected from this effort will allow us to answer critical operating questions, including:

• Which audiences (e.g., doctors, local health officials, researchers, etc.) receive their information from which CDC platforms?

• How often and with what purpose do they access CDC platforms?

• How satisfied are subscribers of the platforms with the content and delivery of information?

• Are there ways to enhance the platforms for the subscriber through improvements to current offerings or through new products / services?

• Who are our most critical target audiences, i.e., what are our publication and dissemination priorities in service to our health impact goals?

The purpose of this project is to evaluate the content, processes, and channels through which CDC communicates scientific information to partners and customers to ensure that health impact is maximized through the delivery of timely, effective, and credible information, which will result in optimal benefit for public health. The evaluation will help to ensure that these platforms meet subscriber and partner priorities, build CDC's brand, and contribute to health impact goals. Feedback from the subscriber base is necessary to fully evaluate the performance of CDC's platforms.

At this time, the scope of this project is limited to five communication platforms owned and managed by CDC which transmits information primarily intended for scientific and professional audiences. However, future plans include adding additional publications as needed. The initial five communications platforms are: Emerging Infections Journal, MMWR, Epi-X, Preventing Chronic Diseases Journal, and Health Alert Network. We want to ensure that the timeliness, effectiveness, and credibility of this communication maximizes the health impact of that information, resulting in optimum benefit for public health. These channels include both print and electronic versions of the five platforms. There is no cost to respondents other than their time. The total estimated burden hours are 18,970.

Estimates of Annualized Burden Hours
Form | Respondents | Responses per respondent | Hrs/response (in hrs)
MMWR | 30,000 | 1 | 20/60
EID | 12,750 | 1 | 20/60
PCD | 10,500 | 1 | 20/60
Epi-X | 1,650 | 1 | 20/60
HAN | 2,000 | 1 | 20/60

Dated: August 18, 2005.
Joan F. Karr,
Acting Reports Clearance Officer, Centers for Disease Control and Prevention.

[FR Doc. 05-16894 Filed 8-24-05; 8:45 am]

BILLING CODE 4163-18-P